DEPARTMENT OF HEALTH AND HUMAN SERVICES

National Institutes of Health

Proposed Collection; 60-Day Comment Request; Post-Award Reporting Requirements Including Research Performance Progress Report Collection (OD)

AGENCY: National Institutes of Health, HHS.

ACTION: Notice.

SUMMARY: In compliance with the requirement of the Paperwork Reduction Act of 1995, for opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Mikia P. Currie, Program Analyst, Office of Policy for Extramural Research Administration, 6705 Rockledge Drive, Suite 350, Bethesda, Maryland 20892, or call a non-toll-free number 301-435-0941 or email your request, including your address to ProjectClearanceBranch@mail.nih.gov. Formal requests for additional plans and instruments must be requested in writing.

SUPPLEMENTARY INFORMATION: Section 3506(c)(2)(A) of the Paperwork Reduction Act of 1995 requires: written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Public Health Service (PHS) Post-award Reporting Requirements Revision, OMB 0925-0002, Expiration Date 01/31/2026, Office of the Director (OD), National Institutes of Health (NIH).

Need and Use of Information Collection: Starting in 2025, NIH will require applicable recipients to address progress in association with their approved Data Management and Sharing Plans within the Research Performance Progress Report (RPPR) in accordance with the final NIH Policy for Data Management and Sharing to promote the management and sharing of scientific data generated from NIH-funded or conducted research. The progress report forms will be updated to align with this requirement. The Training Data Tables will also be updated to reduce the burden and promote consistent information collection, including limiting the scope of information collection to data only relevant to the training stage(s) of the proposed program in Table 1 and removing instructions in Table 8 that are reported within the RPPR. Effective May 2025, NIH will be adopting the Common Forms for Biographical Sketch and Current and Pending (Other) Support as part of the directive from Guidance for Implementing National Security Presidential Memorandum (NSPM)-33. The Common Forms are part of a separate OMB collection, currently approved under 3145-0279. As such, elements collected within the Common Forms will be removed from NIH's current NIH Biosketch and Other Support formats. NIH will continue to collect additional information not captured on the Common Forms to adhere to the agency's implementation of the NIH Peer Review Regulations at 42 CFR part 52 as part of the NIH Biosketch form, which will be renamed the NIH Biosketch Supplement to reflect the supplemental information requested. The application and progress report forms and associated instructions will be updated to align with these new requirements. The RPPR is required to be used by all NIH, Food and Drug Administration (FDA), Centers for Disease Control and Prevention, and Agency for Healthcare Research and Quality (AHRQ) grantees. Interim progress reports are required to continue support of a PHS grant for each budget year within a competitive segment. This collection also includes other PHS post-award reporting requirements: PHS 416-7 National Research Service Award (NRSA) Termination Notice, PHS 2271 Statement of Appointment, 6031-1 NRSA Annual Payback Activities Certification, HHS 568 Final Invention Statement and Certification, and PHS 3734 Statement Relinquishing Interests and Rights in a PHS Research Grant. The PHS 416-7, 2271, and 6031-1 are used by NRSA recipients to activate, terminate, and provide for payback of an NRSA. Closeout of an award requires a Final Invention Statement (HHS 568) and a Final Progress Report. The PHS 3734 serves as the official record of grantee relinquishment of a PHS award when an award is transferred from one grantee institution to another. Pre-award reporting requirements are simultaneously consolidated under 0925-0001 and the changes to the collection here are related.

OMB approval is requested for 3 years. There are no costs to respondents other than their time. The total estimated annualized burden hours are 579,365.

Estimated Annualized Burden Hours
Information collection forms | Number of respondents | Number of responses per respondent | Average burden per response (in hours) | Total annual burden hours
REPORTING
PHS 416-7 | 12,580 | 1 | 30/60 | 6,290
PHS 6031-1 | 1,778 | 1 | 20/60 | 593
PHS 568 | 11,180 | 1 | 5/60 | 932
PHS 2271 | 22,035 | 1 | 15/60 | 5,509
PHS 2590 | 243 | 1 | 18 | 4,374
RPPR-Core Data | 32,098 | 1 | 8 | 256,784
Biosketch (Part of RPPR) | 2,544 | 1 | 2 | 5,088
Data Tables (Part of RPPR) | 758 | 1 | 4 | 3,032
Trainee Diversity Report (Part of RPPR) | 480 | 1 | 15/60 | 120
PHS Human Subjects and Clinical Trial Information | 6,420 | 1 | 3 | 25,680
Publication Reporting | 97,023 | 3 | 5/60 | 24,256
Final RPPR—Core Data | 18,000 | 1 | 10 | 180,000
Data Tables (Part of Final RPPR) | 758 | 1 | 4 | 3,032
Trainee Diversity Report (Part of Final RPPR) | 480 | 1 | 15/60 | 120
PHS Human Subjects and Clinical Trial Information (Part of Final RPPR) | 3,600 | 1 | 4 | 14,400
PHS 3734 | 479 | 1 | 30/60 | 240
Data Management and Sharing Plan (Part of RPPR) | 15,649 | 1 | 2 | 31,298
Data Management and Sharing Plan (Part of Final RPPR) | 8,621 | 1 | 2 | 17,242
Reporting Burden Total |  |  |  | 578,990
RECORDKEEPING
SBIR/STTR Life Cycle Certification | 1,500 | 1 | 15/60 | 375
Grand Total | 236,226 |  |  | 579,365

Dated: May 9, 2024.
Lawrence A. Tabak,
Principal Deputy Director, National Institutes of Health.

[FR Doc. 2024-11256 Filed 5-21-24; 8:45 am]

BILLING CODE 4140-01-P